POSTAL SERVICE

Privacy Act of 1974; System of Records

AGENCY: Postal Service.™

ACTION: Notice of modification to existing system of records.

SUMMARY: The United States Postal Service® is proposing to modify one of its General Privacy Act Systems of Records: USPS 880.000, Post Office and Retail Services. These modifications reflect the changes that have been made in providing alternate access to customers such as “Village Post Offices,” which are operated by community businesses to provide selected postal products and services and Post Office Box™ service at or near the business location.

DATES: The revision will become effective without further notice on November 4, 2011, unless comments received on or before that date result in a contrary determination.

ADDRESSES: Comments may be mailed or delivered to the Records Office, United States Postal Service, 475 L'Enfant Plaza, SW., Room 4541, Washington, DC 20260-2201. Copies of all written comments will be available at this address for public inspection and photocopying between 8 a.m. and 4 p.m., Monday through Friday.

FOR FURTHER INFORMATION CONTACT: Jane Eyre, Manager, Records Office, 202-268-2608.

SUPPLEMENTARY INFORMATION: This notice is in accordance with the Privacy Act requirement that agencies publish their amended systems of records in the Federal Register when there is a revision, change, or addition. The Postal Service has reviewed its systems of records and has determined that the Post Office and Retail Services records system should be revised to modify the following sections: System location, categories of individuals covered by the system, categories of records in the system, purposes, retention and disposal, and system manager(s) and address.

I. Background

Over the past 5 years, the Postal Service has continued to experience a decline in mail volume and has had to reduce costs due to the decline. The Postal Service is seeking to optimize its retail network by reducing its traditional footprint of retail offices and expanding access locations to grocery or drug stores, office supply stores, retail chains, and self-service kiosks. By working with third-party retailers, the Postal Service is creating easier, more convenient access to its products and services when and where its customers want them.

II. Rationale for Changes to USPS Privacy Act Systems of Records

In the ever changing world, consumers want more options for obtaining secure and convenient delivery of their packages. The Postal Service will be providing secure alternate delivery to its customers in the future and is making these proposed changes to reflect those demands. Also, system owners are being updated due to changes in international claims processing.

III. Description of Changes to System of Records

The Postal Service is modifying one system of records: USPS 880.000, Post Office and Retail Services. Pursuant to 5 U.S.C. 552a(e)(11), interested persons are invited to submit written data, views, or arguments on this proposal. A report of the proposed modification has been sent to Congress and to the Office of Management and Budget for their evaluation. The Postal Service does not expect this amended notice to have any adverse effect on individual privacy rights. The Postal Service proposes amending the system as shown below:

USPS 880.000

SYSTEM NAME:

Post Office and Retail Services.

SYSTEM LOCATION:

[CHANGE TO READ]

USPS Headquarters, Consumer Advocate; Integrated Business Solutions Services Centers; Material Distribution Center; Accounting Service Centers; and USPS facilities, including Post Offices (New Jersey, as an exception, does not store passport information in Post Offices), and contractor locations.

CATEGORIES OF INDIVIDUALS COVERED BY THE SYSTEM:

* * * * *

[INSERT NEW TEXT]

5. Customers requesting delivery of mail to alternate locations.

CATEGORIES OF RECORDS IN THE SYSTEM:

[CHANGE TO READ]

1. Customer information: Name, customer ID(s), customer Personal Identification Numbers (PINs), company name, phone number, mail and e-mail address, record of payment, passport applications and a description of passport services rendered, Post Office box and caller service numbers.

* * * * *

PURPOSE(S):

* * * * *

[CHANGE TO READ]

2. To ensure accurate and secure mail delivery.

* * * * *

RETENTION AND DISPOSAL:

* * * * *

[CHANGE TO READ]

3. Domestic and international Extra Services records are retained 2 years. Records relating to Post Office boxes, caller services, and alternate delivery are retained up to 3 years after the customer relationship ends.

* * * * *

6. Records related to inquiries and claims are retained 3 years from final action on the claim.

SYSTEM MANAGER(S) AND ADDRESS:

[CHANGE TO READ]

President, Mailing and Shipping Services, United States Postal Service, 475 L'Enfant Plaza, SW., Washington, DC 20260.

Vice President, Delivery and Post Office Operations, United States Postal Service, 475 L'Enfant Plaza, SW., Washington, DC 20260.

Vice President, Controller, United States Postal Service, 475 L'Enfant Plaza, SW., Washington, DC 20260.

* * * * *

Stanley F. Mires,
Attorney, Legal Policy & Legislative Advice.

[FR Doc. 2011-25735 Filed 10-4-11; 8:45 am]

BILLING CODE 7710-12-P